DEPARTMENT OF EDUCATION

Advisory Commission on Accessible Instructional Materials in Postsecondary Education for Students With Disabilities

AGENCY: U.S. Department of Education, Office of Special Education and Rehabilitative Services, Advisory Commission on Accessible Instructional Materials in Postsecondary Education for Students with Disabilities.

ACTION: Notice of an open meeting via conference call.

SUMMARY: The notice sets forth the schedule and agenda of the meeting of the Advisory Commission on Accessible Instructional Materials in Postsecondary Education for Students with Disabilities. The notice also describes the functions of the Commission. Notice of the meeting is required by section 10(a)(2) of the Federal Advisory Committee Act and is intended to notify the public of its opportunity to attend.

DATES: October 24, 2011.

Time: 11 a.m.-5 p.m., Eastern Standard Time.

ADDRESSES: The Commission will meet via conference call on October 24, 2011. Members of the public have the option of participating in the open meeting remotely. Remote access will be provided via an internet webinar service utilizing VoiP (Voice Over Internet Protocol). The login address for members of the public is https://aimpsc.ilinc.com/join/vfhzhzk. This login information is also provided via the Commission's public listserv at pscpublic@lists.cast.org and posted at the following site: http://www2.ed.gov/about/bdscomm/list/aim/index.html.

FOR FURTHER INFORMATION CONTACT: Elizabeth Shook, Program Specialist, Office of Special Education and Rehabilitative Services, United States Department of Education, 550 12th Street, SW., Washington, DC 20202; telephone: (202) 245-7642, fax: 202-245-7638.

SUPPLEMENTARY INFORMATION: The Advisory Commission on Accessible Instructional Materials in Postsecondary Education for Students with Disabilities (the Commission) is established under Section 772 of the Higher Education Opportunity Act, Public Law 110-315, dated August 14, 2008. The Commission is established to (a) conduct a comprehensive study, which will—(I) assess the barriers and systemic issues that may affect, and technical solutions available that may improve, the timely delivery and quality of accessible instructional materials for postsecondary students with print disabilities, as well as the effective use of such materials by faculty and staff; and (II) make recommendations related to the development of a comprehensive approach to improve the opportunities for postsecondary students with print disabilities to access instructional materials in specialized formats in a timeframe comparable to the availability of instructional materials for postsecondary nondisabled students.

In making recommendations for the study, the Commission shall consider—(I) how students with print disabilities may obtain instructional materials in accessible formats within a timeframe comparable to the availability of instructional materials for nondisabled students; and to the maximum extent practicable, at costs comparable to the costs of such materials for nondisabled students; (II) the feasibility and technical parameters of establishing standardized electronic file formats, such as the National Instructional Materials Accessibility Standard as defined in Section 674(e)(3) of the Individuals with Disabilities Education Act, to be provided by publishers of instructional materials to producers of materials in specialized formats, institutions of higher education, and eligible students; (III) the feasibility of establishing a national clearinghouse, repository, or file-sharing network for electronic files in specialized formats and files used in producing instructional materials in specialized formats, and a list of possible entities qualified to administer such clearinghouse, repository, or network; (IV) the feasibility of establishing market-based solutions involving collaborations among publishers of instructional materials, producers of materials in specialized formats, and institutions of higher education; (V) solutions utilizing universal design; and (VI) solutions for low-incidence, high-cost requests for instructional materials in specialized formats.

During the meeting, the Commission will review and approve the final draft of the Commission's report to Congress and the Secretary. Given the limited meeting time, the Commission does not anticipate that there will be an opportunity for public comment during the teleconference meeting. Members of the public are encouraged to submit written comments to the AIM Commission Web site at aimcommission@ed.gov, and the Commission will respond to the comments if possible. Members of the public who would like to offer comments as part of the meeting may submit written comments to AIMCommission@ed.gov or by mail to Advisory Commission on Accessible Instructional Materials in Postsecondary Education for Students with Disabilities, 550 12th St., SW., Room PCP-5113, Washington, DC 20202. All submissions will become part of the public record. Members of the public may also join the Commission's list serv at PSCpublic@lists.cast.org.

Detailed minutes of the meeting, including summaries of the activities of the closed sessions and related matters that are informative to the public and consistent with the policy of section 5 U.S.C. 552b(c) will be available to the public. Records are kept of all Commission proceedings and are available for public inspection at the Office of Special Education and Rehabilitative Services, United States Department of Education, 550 12th Street, SW., Washington, DC 20202, Monday-Friday during the hours of 8 a.m. to 4:30 p.m.

Additional Information

Individuals who will need accommodations for a disability in order to listen to the meeting (e.g., interpreting services, assistive listening devices, or material in alternative format) should notify Elizabeth Shook at (202) 245-7642, no later than October 14, 2011. We will make every attempt to meet requests for accommodations after this date, but, cannot guarantee their availability. The conference call will be accessible to individuals with disabilities.

Electronic Access to this Document: You may view this document, as well as all other documents of this Department published in the Federal Register, in text or Adobe Portable Document Format (PDF) on the internet at the following site: http://www.ed.gov/news/fedregister/index.html. To use PDF you must have Adobe Acrobat Reader, which is available free at this site. If you have questions about using PDF, call the U.S. Government Printing Office (GPO), toll free at 1-866-512-1800; or in the Washington, DC area at 202-512-0000.

Dated: September 28, 2011.
Alexa Posny,
Assistant Secretary, Office of Special Education and Rehabilitative Services.

[FR Doc. 2011-25542 Filed 10-3-11; 8:45 am]

BILLING CODE 4000-01-P